DEPARTMENT OF JUSTICE

Notice of Lodging of a Consent Decree Under The Clean Water Act, The Clean Air Act, and The Federal Pipeline Safety Laws

Notice is hereby given that on May 3, 2011, a proposed Consent Decree in United States v. BP Exploration (Alaska) Inc., Civil Action No. 3:09-CV-00064-JWS was lodged with the United States District Court for the District of Alaska.

In this action the United States seeks civil penalties and injunctive relief for violations of the Clean Water Act, 33 U.S.C. 1311, 1319, 1321, as amended by the Oil Pollution Act of 1990, 33 U.S.C. 2701 et seq.; the Clean Air Act (CAA), 42 U.S.C. 7401-7671q; and the Federal Pipeline Safety Laws, 49 U.S.C. 60101 et seq., in connection with BP Exploration (Alaska) Inc. (“BPXA”)'s operation of oil pipelines on the North Slope of Alaska. The Clean Water Act claims in the Complaint arise from two unauthorized discharges of crude oil in the spring and summer of 2006, as well as violations of the Spill Prevention Control and Countermeasure regulations. The Clean Air Act claims against BPXA arise from the improper removal of asbestos-containing material from its pipelines in the spring and summer of 2006, in violation of CAA regulations. The Pipeline Safety Law claims arise from BPXA's failure to comply with an order issued by the Pipeline and Hazardous Materials Safety Administration of the United States Department of Transportation pursuant to 49 U.S.C. 60112, requiring BPXA to perform corrective action on its pipelines.

Under the proposed Consent Decree, BPXA will be required to implement a comprehensive integrity management program to maintain its oil pipelines in Prudhoe Bay. BPXA will also pay $25 million in civil penalties.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. BP Exploration (Alaska) Inc., D.J. Ref. 90-5-1-1-08808.

The proposed Consent Decree may be examined at the U.S. Environmental Protection Agency, Region 10, 1200 Sixth Avenue, Seattle, WA 98101 (contact Associate Regional Counsel Stephanie Mairs (206) 553-7359). During the public comment period, the proposed Consent Decree may also be examined on the following Department of Justice Web site, at http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $32 for complete Consent Decree or $15.75 for the Consent Decree without the appendices (25 cents per page reproduction cost) payable to the U.S. Treasury or, if by e-mail or fax, forward a check in that amount to the Consent Decree Library at the stated address.

Robert E. Maher, Jr.,
Assistant Section Chief, Environmental Enforcement Section, Environment and Natural Resources Division.

[FR Doc. 2011-11174 Filed 5-6-11; 8:45 am]

BILLING CODE 4410-15-P